DEPARTMENT OF HOMELAND SECURITY

Federal Emergency Management Agency

[Docket ID FEMA-2023-0002; Internal Agency Docket No. FEMA-B-2301]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP).

DATES: Comments are to be submitted on or before April 25, 2023.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2301, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Federal Emergency Management Agency, Department of Homeland Security.

Community | Community map repository address
Marion County, Indiana (All Jurisdictions)
Project: 20-05-0016S Preliminary Date: September 30, 2022
City of Indianapolis | Madison Plaza, 1200 Madison Avenue, Suite 100, Indianapolis, IN 46225.
Town of Speedway | Municipal Center, 5300 Crawfordsville Road, Speedway, IN 46224.
Le Sueur County, Minnesota and Incorporated Areas
Project: 17-05-1791S Preliminary Date: July 14, 2022
City of Cleveland | City Hall, 205 4th Street, Cleveland, MN 56017.
City of Elysian | City Hall, 110 West Main Street, Elysian, MN 56028.
City of Heidelberg | City Hall, 31552 181st Avenue, Heidelberg, MN 56071.
City of Kasota | Community Center, 200 North Webster Street, Kasota, MN 56050.
City of Kilkenny | Fire Department, 156 South Laurel Avenue, Kilkenny, MN 56052.
City of Le Sueur | Municipal Building, 203 South 2nd Street, Le Sueur, MN 56058.
City of Montgomery | Municipal Building, 201 Ash Avenue Southwest, Montgomery, MN 56069.
City of New Prague | City Hall, Planning and Zoning Department, 118 Central Avenue North, New Prague, MN 56071.
City of Waterville | City Hall, 200 3rd Street South, Waterville, MN 56096.
Unincorporated Areas of Le Sueur County | Le Sueur County Environmental Services Department, 515 South Maple Avenue, Le Center, MN 56057.
Monroe County, New York (All Jurisdictions)
Project: 20-02-0021S Preliminary Date: September 30, 2022
City of Rochester | City Hall, 30 Church Street, Rochester, NY 14614.
Town of Brighton | Brighton Town Hall, 2300 Elmwood Avenue, Rochester, NY 14618.
Town of Greece | Town Hall, 1 Vince Tofany Boulevard, Greece, NY 14612.
Town of Hamlin | Town Hall, 1658 Lake Road, Hamlin, NY 14464.
Town of Irondequoit | Irondequoit Town Hall, 1280 Titus Avenue, Rochester, NY 14617.
Town of Parma | Parma Town Hall, 1300 Hilton Parma Corners Road, Hilton, NY 14468.
Town of Penfield | Town Hall, 3100 Atlantic Avenue, Penfield, NY 14526.
Town of Webster | Town Hall, 1000 Ridge Road, Webster, NY 14580.

[FR Doc. 2023-01423 Filed 1-24-23; 8:45 am]

BILLING CODE 9110-12-P